DEPARTMENT OF TRANSPORTATION

Federal Aviation Administration

14 CFR Part 39

[Docket No. 2003-CE-33-AD; Amendment 39-13282; AD 2003-16-51]

RIN 2120-AA64

Airworthiness Directives; Schempp-Hirth Flugzeugbau GmbH Model Duo-Discus Gliders

AGENCY: Federal Aviation Administration, DOT.

ACTION: Final rule; request for comments.

SUMMARY: This amendment adopts a new airworthiness directive (AD) that applies to certain Schempp-Hirth (SCHEMPP-HIRTH) Flugzeugbau GmbH Model Duo-Discus gliders. This AD requires you to accomplish a one-time inspection of the bonding of the spar cap and spar web, and repair any defective bonding of the spar cap and spar web. This AD is the result of mandatory continuing airworthiness information (MCAI) issued by the airworthiness authority for Germany. The actions specified by this AD are intended to detect and correct failure of the bonding of the spar cap and spar web, which if not detected and corrected, could result in an in-flight failure of the wing.

DATES: The AD becomes effective August 20, 2003, to all affected persons who did not receive emergency AD 2003-16-51, issued August 7, 2003. Emergency AD 2003-16-51 contained the requirements of this amendment, and became effective immediately upon receipt and required the actions prior to further flight.

The Director of the Federal Register approved the incorporation by reference of certain publications listed in the regulation as of August 20, 2003.

The Federal Aviation Administration (FAA) must receive any comments on this rule on or before September 15, 2003.

ADDRESSES: Submit comments to FAA, Central Region, Office of the Regional Counsel, Attention: Rules Docket No. 2003-CE-33-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-33-AD” in the subject line. If you send comments electronically as attached electronic files, the files must be formatted in Microsoft Word 97 for Windows or ASCII text.

You may view information related to this AD at FAA, Central Region, Office of the Regional Counsel, Attention: Rules Docket No. 2003-CE-33-AD, 901 Locust, Room 506, Kansas City, Missouri 64106; or at the Office of the Federal Register, 800 North Capitol Street, NW., Suite 700, Washington, DC.

FOR FURTHER INFORMATION CONTACT: Gregory Davidson, Aerospace Engineer, FAA, Small Airplane Directorate, Room 301, 901 Locust, Kansas City, Missouri 64106; telephone: (816) 329-4130; facsimile: (816) 329-4090.

SUPPLEMENTARY INFORMATION:

Discussion

What Has Happened So Far?

The Luftfahrt-Bundesamt (LBA), which is the airworthiness authority for Germany, recently notified FAA that an unsafe condition may exist on certain SCHEMPP-HIRTH Model Duo-Discus gliders. The LBA reports an in-flight failure of the wing structure at maneuvering loads. Initial analysis indicates failure in the bonding of the spar cap and spar web.

SCHEMPP-HIRTH has received additional reports of bonding problems of the spar cap and spar web.

SCHEMPP-HIRTH has issued service information regarding this subject:

• Technical Note No. 396-8/No. 890-3, dated August 1, 2003; and

• Appendix to Technical Note No. 396-8/No. 890-3, dated August 1, 2003.

On January 27, 2003, FAA issued emergency AD 2003-16-51 to require you to inspect the bonding of the spar cap and spar web; and repair any defective bonding of the spar cap and spar web.

Why Is It Important To Publish this AD?

The FAA found that immediate corrective action was required, that notice and opportunity for prior public comment were impracticable and contrary to the public interest, and that good cause existed to make the AD effective immediately by individual letters issued on August 7, 2003, to all known U.S. operators of certain SCHEMPP-HIRTH Duo-Discus gliders. These conditions still exist, and the AD is published in the Federal Register as an amendment to section 39.13 of the Federal Aviation Regulations (14 CFR 39.13) to make it effective to all persons.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention To?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your written comments, you must include a self-addressed, stamped postcard. On the postcard, write “Comments to Docket No. 2003-CE-33-AD.” We will date stamp and mail the postcard back to you.

Regulatory Impact

Does This AD Impact Various Entities?

These regulations will not have a substantial direct effect on the States, on the relationship between the national government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2003-16-51 Schempp-Hirth Flugzeugbau GmbH: Docket No. 2003-CE-33-AD.

(a) What gliders are affected by this AD? This AD applies to Model Duo-Discus gliders, serial numbers 165 through 389, that are certificated in any category.

(b) Who must comply with this AD? Anyone who wishes to operate any of the gliders identified in paragraph (a) of this AD must comply with this AD.

(c) What problem does this AD address? This AD is intended to detect and correct failure of the bonding of the spar cap and spar web, which if not detected and corrected, could result in an in-flight failure of the wing.

(d) What must I do to address this problem? To address this problem, you must accomplish the following actions:

Actions | Compliance | Procedures
(1) Inspect the bonding between the spar cap and the spar web for defects | Prior to further flight after August 20, 2003 (the effective date of this AD), except that this action was required prior to further flight after receipt those who received emergency AD 2003-16-51, which was issued on August 7, 2003 | In accordance with SCHEMPP-HIRTH Flugzeugbau for GmbH. Hircheim/Teck Technical Note No. 396-8, No. 890-3, dated August 1, 2003; and SCHEMPP-HIRTH Flugzeugbau GmbH. Hircheim/Teck Appendix to Technical Note No. 396-8/No. 890-3, dated August 1, 2003.
(2) Repair any defect in the bonding between the spar cap and the spar web, as specified in the service information | Prior to further flight after the inspection required by paragraph (d)(1) of this AD | In accordance with SCHEMPP-HIRTH Flugzeugbau GmbH. Hircheim/Teck Technical Note No. 396-8, No. 890-3, dated August 1, 2003; and SCHEMPP- HIRTH Flugzeugbau GmbH. Hircheim/Teck Appendix to Technical Note No. 396-8/No. 890-3, dated August 1, 2003.

(e) Can I comply with this AD in any other way? To use an alternative method of compliance or adjust the compliance time, follow the procedures in 14 CFR 39.19. Send these requests to the Manager, Standards Office, Small Airplane Directorate. For information on any already approved alternative methods of compliance, contact Gregory Davidson, Aerospace Engineer, FAA, Small Airplane Directorate, Room 301, 901 Locust, Kansas City, Missouri 64106; telephone: (816) 329-4130; facsimile: (816) 329-4090.

(f) Are special flight permits allowed? No. Special flight permits are not allowed by this AD. The FAA has determined that the safety issue is severe enough that the gliders must be free of bonding defects in the spar area before further operation.

(g) Are any service bulletins incorporated into this AD by reference? Actions required by this AD must be done in accordance with SCHEMPP-HIRTH Flugzeugbau GmbH. Hircheim/Teck Technical Note No. 396-8, No. 890-3, dated August 1, 2003; and SCHEMPP-HIRTH Flugzeugbau GmbH. Hircheim/Teck Appendix to Technical Note No. 396-8/No. 890-3, dated August 1, 2003. The Director of the Federal Register approved this incorporation by reference under 5 U.S.C. 552(a) and 1 CFR part 51. You can get copies from Schempp-Hirth Flugzeugbau GmbH, Postfach 1443, 73222 Kircheim/Teck, Federal Republic of Germany; telephone: 49 7021 7298-0; facsimile: 49 7021 7298-199. You may view copies at FAA, Central Region, Office of the Regional Counsel, 901 Locust, Room 506, Kansas City, Missouri, or at the Office of the Federal Register, 800 North Capitol Street, NW., suite 700, Washington, DC.

(h) When does this AD become effective? This AD becomes effective August 20, 2003, to all affected persons who did not receive emergency AD 2003-16-51, issued August 7, 2003. Emergency AD 2003-16-51 contained the requirements of this amendment and became effective immediately upon receipt and required the actions before further flight.

Note: The subject of this AD is addressed in German AD Number 2003-246/2, dated August 1, 2003.

Issued in Kansas City, Missouri, on August 12, 2003.
Diane K. Malone,
Acting Manager, Small Airplane Directorate, Aircraft Certification Service.

[FR Doc. 03-21152 Filed 8-19-03; 8:45 am]

BILLING CODE 4910-13-P